DEPARTMENT OF AGRICULTURE

Food and Nutrition Service

Agency Information Collection Activities: Proposed Collection; Comment Request—Supplemental Nutrition Assistance Program—Trafficking Controls and Fraud Investigations

AGENCY: Food and Nutrition Service, USDA.

ACTION: Notice.

SUMMARY: In accordance with the Paperwork Reduction Act of 1995, this notice invites the general public and other public agencies to comment on the proposed collection. This is a revision of a currently approved collection codified by Supplemental Nutrition Assistance Program (SNAP) regulations at 7 CFR 274.6(b)(5) and 274.6(b)(6).

Food and Nutrition Service (FNS) regulations at 7 CFR 274.6(b)(5) allow State agencies to deny a request for a replacement SNAP Electronic Benefit Transfer (EBT) card until the household makes contact with the State agency if the requests for replacement cards are determined to be excessive. The State agency may determine the threshold for excessive card replacments, not to be less than four replacement cards in a 12-month period.

FNS regulations at 274.6(b)(6) require State agencies to monitor EBT card replacement requests and send notices to households when they request four cards within a 12-month period. The State agency shall be exempt from sending this Excessive Replacement Card Notice if it adopts the card withholding option in accordance with 7 CFR 274.6(b)(5) and sends the requisite Withholding Replacement Card Warning Notice on the fourth replacement card request.

DATES: Written comments must be submitted on or before August 23, 2016.

ADDRESSES: Comments are invited on: (a) Whether the proposed information collection is necessary for the proper performance of the functions of the agency, including whether the information has practical utility; (b) the accuracy of the agency's estimated burden for the proposed information collection, including the validity of the methodology and assumptions used; (c) ways to enhance the quality, utility, and clarity of the information to be collected; and (d) ways to minimize the burden of the information collection on those who are to respond, including the use of appropriate automated, electronic, mechanical, or other technological collection techniques or other forms of information technology.

Comments may be sent to Jane Duffield, Branch Chief, State Administration Branch, Program Accountability and Administration Division, Food and Nutrition Service, U.S. Department of Agriculture, 3101 Park Center Drive, Room 818, Alexandria, VA 22302. You may also download an electronic version of this notice at http://www.fns.usda.gov/snap/federal-register-documents/rules/view-all and comment via email at SNAPSAB@fns.usda.gov. Comments will also be accepted through the Federal eRulemaking Portal. Go to http://www.regulations.gov and follow the online instructions for submitting comments electronically.

All written comments will be open for public inspection at the office of the Food and Nutrition Service during regular business hours (8:30 a.m. to 5 p.m., Monday through Friday) at 3101 Park Center Drive, Room 822, Alexandria, Virginia 22302.

All comments to this notice will be included in the request for Office of Management and Budget approval. All comments will also become a matter of public record.

FOR FURTHER INFORMATION CONTACT: Request for additional information or copies of this information collection should be directed to Clyde Thompson at (703) 305-2461.

SUPPLEMENTARY INFORMATION:

Title: Supplemental Nutrition Assistance Program: Trafficking Controls and Fraud Investigations.

OMB Number: 0584-0587.

Expiration Date: 9/30/2016.

Type of Request: Revision of a currently approved collection.

Abstract: FNS regulations at 7 CFR 274.6 requires State Agencies to issue warning notices to withhold replacement cards or a notice for excessive replacement cards.

Withhold Replacement Card Warning Notice: State agencies may require an individual member of a household to contact the State agency to provide an explanation in cases where the number of requests for card replacements is determined excessive. The State agency must notify the household in writing when it has reached the threshold, indicating that the next request for card replacement will require the client to contact the State agency to provide an explanation for the requests, before the replacement card will be issued. The State agency must also notify the household in writing once the threshold has been exceeded and the State agency is withholding the card until contact is made.

Excessive Replacement Card Notice: State agencies must monitor all client requests for EBT card replacements and send a notice, upon the fourth request in a 12-month period, alerting the household their account is being monitored for potential, suspicious activity. The State agency is exempt from sending this notice if they have chosen to exercise the option to withhold the replacement card until contact is made with the State agency.

The current approval annual burden is 8,336 hours. The updated estimated annual burden is approximately 21,940.41 hours. This revised estimate reflects an increase since the last OMB approval, due to having more accurate figures of State participation and household card request. This updated version also includes the time it takes a household to read the notice required by 274.6(b)(6), which was not included in the original burden. FNS estimates that it will take State personnel approximately 2 minutes to generate and mail each required notice to the client, to comply with 7 CFR 274.6; and that it will take SNAP recipients approximately 2 minutes to read each notice they receive and 28 minutes to make contact with the State agency when required. FNS is currently aware of two State agencies which have opted to follow our regulations at 274.6(b)(5) to withhold replacement cards, with an additional State agency considering the option. All other State agencies follow our regulations at 274.6(b)(6) for the Excessive Replacement Card Notice. Available data from 2015 shows that on average 2,527.5 households in a State request five or more replacement cards within 12 months. FNS estimates that half of all recipients who receive a notice upon issuance of their fourth card (5,055) will not request a fifth card.

Annual Reporting Burden Estimates

Affected Public: Individual/Household; and State and Local Government Agencies.

Estimated Number of Respondents: 275,549.

Estimated Number of Responses per Respondent: 2.

Estimated Total Annual Responses: 550,994.

Estimated Total Annual Burden on Respondents: 21,940.

Estimated Annual Burden for 0584-0587 Supplemental Nutrition Assistance Program: Trafficking Controls and Fraud, 7 CFR 274
CFR | Title | Number of respondents | Annual responses per respondent | Total annual responses | Burden hours per response | Total burden hours
Affected Public: State and Local Agencies
274.6(b)(5) | Withhold Replacement Card Warning Notice | 3 | 5,055 | 15,165 | 0.0334 | 506.5
274.6(b)(5) | Replacement Card Withheld Notice | 3 | 2,527.5 | 7,583 | 0.0334 | 253.2
274.6(b)(6) | Excessive Replacement Card Notice | 50 | 5,055 | 252,750 | 0.0334 | 8,441.85
Subtotal |  | 53 | 5,198 | 275,498 | 0.0334 | 9,201.55
Affected Public: Households
274.6(b)(5) | Withhold Replacement Card Warning Notice | 15,165 | 1 | 15,165 | 0.0334 | 506.5
274.6(b)(5) | Replacement Card Withheld Notice | 7,581 | 1 | 7,581 | 0.5 | 3,790.5
274.6(b)(5) | Excessive Replacement Card Notice | 252,750 | 1 | 252,750 | 0.0334 | 8,441.85
Subtotal |  | 275,496 | 1 | 275,496 | .0462 | 12,738.85
Grand Total |  | 275,549 | 2 | 550,994 | 0.0796 | 21,940.41

Dated: June 16, 2016.
Yvette S. Jackson,
Acting Administrator, Food and Nutrition Service.

[FR Doc. 2016-14993 Filed 6-23-16; 8:45 am]

BILLING CODE 3410-30-P